DEPARTMENT OF HEALTH AND HUMAN SERVICES

Administration for Children and Families

Proposed Information Collection Activity; National Directory of New Hires (OMB No. 0970-0166)

AGENCY: Office of Child Support Enforcement, Administration for Children and Families, HHS.

ACTION: Request for public comment.

SUMMARY: The Office of Child Support Enforcement (OCSE), Administration for Children and Families (ACF), is requesting the federal Office of Management and Budget (OMB) to approve the National Directory of New Hires (NDNH), with minor changes to the Multistate Employer Registration form, for an additional three years. The current OMB approval expires July 31, 2022.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION: Description: The NDNH is a federally mandated repository of employment and wage information. The information maintained in the NDNH is collected electronically and is used for authorized purposes. State child support agencies use the NDNH information to locate a parent living or working in a different state and to take appropriate interstate actions to establish, modify, or enforce a child support order. NDNH information is also used for authorized purposes by specific state and federal agencies to help administer certain programs, prevent overpayments, detect fraud, assess benefits, and recover funds, as provided under 42 U.S.C. 653(i)(1).

Respondents: Employers, State Child Support Agencies, and State Workforce Agencies.

Annual Burden Estimates
Instrument | Total number of respondents | Total number of responses per respondent | Average annual burden hours per response | Total annual burden hours
New Hire: Employers Reporting Manually | 5,411,180 | 1.29 | .025 | 174,510.56
New Hire: Employers Reporting Electronically | 664,757 | 94.77 | .00028 | 17,639.73
New Hire: States | 54 | 129,629.63 | .017 | 119,000.00
Quarterly Wage (QW) & Unemployment Insurance (UI) | 53 | 28.00 | .00028 | 0.42
Multistate Employer Registration Form | 1,118 | 1.00 | .05 | 55.90
Estimated Total Annual Burden Hours: 311,207.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 653A(b)(1)(A) and (B); 42 U.S.C. 653A(g)(2)(A); 26 U.S.C. 3304(a)(16)(B); 42 U.S.C. 503(h)(1)(A); and 42 U.S.C. 653A(g)(2)(B).

Mary B. Jones,
ACF/OPRE Certifying Officer.

[FR Doc. 2021-28065 Filed 12-23-21; 8:45 am]

BILLING CODE 4184-41-P